DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: Submissions Regarding Correspondence and Regarding Attorney Representation (Trademarks).

Form Number(s): PTO Forms 2196, 2197, and 2201.

Agency Approval Number: 0651-00xx.

Type of Request: New Collection.

Burden: 4,486 hours annually.

Number of Respondents: 68,666 responses per year.

Avg. Hours Per Response: The USPTO estimates that the public will take approximately 3 to 15 minutes completing the information in this collection, depending on the nature of the information and whether the information is transmitted electronically or is submitted in paper. This includes the time to gather the necessary information, create the documents, and submit the completed request. The time estimates for the electronic forms in this collection are based on the average amount of time needed to complete and electronically file the associated form. There are no paper forms in this collection.

Needs and Uses: This collection of information is required by the Trademark Act, 15 U.S.C. 1051 et seq. and is implemented through the Trademark rules set forth in 37 CFR part 2. It provides for the appointment of attorneys of record or domestic representatives to represent applicants in the application process, for the revocation of the appointment of an attorney or domestic representative, for attorneys to request permission to withdraw from representation, and for changes of owners addresses.

This collection has been split from collection 0651-0009 Trademark Processing to reflect the Trademark business processes and to make the collection smaller and more manageable. This collection will contain submissions regarding correspondence and regarding attorney representation.

Affected Public: Business or other for-profit, individuals or households, not-for-profit institutions, farms, Federal government, and State, local, or tribal government.

Frequency: On occasion.

Respondent's Obligation: Required to obtain or retain benefits.

OMB Desk Officer: David Rostker, 202-395-3897.

Copies of the above information collection proposal can be obtained by any of the following methods:

• E-mail: Susan.Brown@uspto.gov. Include “0651-00xx Submissions Regarding Correspondence and Regarding Attorney Representation (Trademarks) copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before September 19, 2005, to David Rostker, OMB Desk Officer, Room 10202, New Executive Office Building, 725 17th Street, NW., Washington, DC 20503.

Dated: August 11, 2005.
Susan K. Brown,
Records Officer, USPTO, Office of Data Architecture and Services, Data Administration Division.

[FR Doc. 05-16371 Filed 8-17-05; 8:45 am]

BILLING CODE 3510-16-P